SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before June 24, 2002.

ADDRESSES: Send all comments regarding whether this information collection is necessary for the proper performance of the function of the agency, whether the burden estimates are accurate, and if there are ways to minimize the estimated burden and enhance the quality of the collection, to John Wade, Financial Analyst, Office of Financial Assistance, Small Business Administration, 409 3rd Street, SW., Suite 8300, Washington DC 20416

FOR FURTHER INFORMATION CONTACT: John Wade, Financial Analyst, (202) 205-3647or Curtis B. Rich, Management Analyst, (202) 205-7030.

SUPPLEMENTARY INFORMATION: Title: Reports to SBA; Provisions of 13 CFR 120 472.

Form No: N/A.

Description of Respondents: Small Business Lending Companies.

Annual Responses: 14.

Annual Burden: 1,120.

Jacqueline White,
Chief, Administrative Information Branch.

[FR Doc. 02-10065 Filed 4-23-02; 8:45 am]

BILLING CODE 8025-01-P